DEPARTMENT OF ENERGY

Federal Energy Regulatory Commission

18 CFR Parts 153, 157, and 380

[Docket No. RM26-2-000]

Authorizations for Certain Activities at Liquefied Natural Gas Plants

AGENCY: Federal Energy Regulatory Commission.

ACTION: Notice of inquiry.

SUMMARY: The Federal Energy Regulatory Commission (Commission) seeks information and stakeholder perspectives to help the Commission explore whether, and if so how, to revise our Part 153, 157, and 380 regulations to establish procedures for authorizing activities at liquefied natural gas plants without case-specific authorization orders under sections 3 and 7 of the Natural Gas Act.

DATES: Comments are due January 26, 2026.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via US Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

The Comment Procedures Section of this document contains more detailed filing procedures.

FOR FURTHER INFORMATION CONTACT:

Danielle Elefritz (Legal Information), Office of the General Counsel, Federal Energy Regulatory Commission, 888 First Street NE, Washington, DC 20426, (202) 502-8767.

Andrew Kohout (Technical Information), Office of Energy Projects, Federal Energy Regulatory Commission, 888 First Street NE, Washington, DC 20426, (202) 502-8053.

SUPPLEMENTARY INFORMATION:

1. In this notice of inquiry, the Federal Energy Regulatory Commission (Commission) seeks information and stakeholder perspectives to help the Commission explore whether, and if so how, to revise its Part 153, 157, and 380 regulations to establish procedures for authorizing activities at liquefied natural gas (LNG) plants ¹ without the need for case-specific authorization applications and orders under sections 3 or 7 of the Natural Gas Act (NGA).

¹ LNG facilities make up the larger LNG plant. LNG plants include LNG terminals authorized under section 3 of the NGA.

I. Background

A. Statutory Framework

2. The Commission regulates the siting, construction, expansion, and operation of LNG facilities pursuant to sections 3 and 7 of the NGA. Section 3(a) provides for federal jurisdiction over the siting, construction, expansion, and operation of facilities used to export or import natural gas.² Section 3(e)(1) states that “[t]he Commission shall have the exclusive authority to approve or deny an application for the siting, construction, expansion, or operation of an LNG terminal.” ³ And under section 7(c), the Commission issues certificates of public convenience and necessity for natural gas and LNG facilities used for the transportation of natural gas in interstate commerce.⁴ Under both section 3 and section 7, the Commission has the authority to include terms and conditions in any order authorizing an LNG facility.⁵

² 15 U.S.C. 717b(a). The 1977 Department of Energy (DOE) Organization Act (42 U.S.C. 7151(b)) placed all section 3 jurisdiction under DOE. The Secretary of Energy subsequently delegated authority to the Commission to “[a]pprove or disapprove the construction and operation of particular facilities, the site at which such facilities shall be located, and with respect to natural gas that involves the construction of new domestic facilities, the place of entry for imports or exit for exports.” DOE Delegation Order S1-DEL-FERC-2006, section 1.21A (May 16, 2006). See EarthReports, Inc. v. FERC, 828 F.3d 949, 952-53 (D.C. Cir. 2016) (detailing how regulatory oversight for the export of LNG and supporting facilities is divided between the Commission and DOE).

³ 15 U.S.C. 717b(e)(1). LNG terminal is defined as: “all natural gas facilities located onshore or in State waters that are used to receive, unload, load, store, transport, gasify, liquefy, or process natural gas that is imported to the United States . . . , exported to a foreign country . . . , or transported in interstate commerce by waterborne vessel, but does not include (A) waterborne vessels used to deliver natural gas to or from any such facility; or (B) any pipeline or storage facility subject to the jurisdiction of the Commission under [section 7].” Id. 717a(11).

⁴ Id. 717f(c)(1)(A).

⁵ Id. 717b(a), 717b(e)(3), 717f(e). For a discussion of the Commission's authority to condition its approvals of LNG facilities under section 3 of the NGA, see, e.g., Distrigas Corp. v. FPC, 495 F.2d 1057, 1063-64 (D.C. Cir. 1974), cert. denied, 419 U.S. 834 (1974); Dynegy LNG Prod. Terminal, L.P., 97 FERC ¶ 61,231 (2001).

3. The NGA also includes additional requirements that must be met prior to authorizing the construction of LNG terminals.⁶ Pursuant to section 3A(a) of the NGA,⁷ the Commission promulgated regulations requiring LNG operators to use a pre-filing process for an application for authorization to construct or modify an LNG terminal.⁸ Section 3(f) requires that the Commission obtain the concurrence of the Secretary of War before authorizing the siting, construction, expansion, or operation of LNG facilities affecting the training or activities of an active military installation.⁹ Section 3A(e) states that “[i]n any order authorizing an LNG terminal the Commission shall require the LNG terminal operator to develop an Emergency Response Plan [that] shall be prepared in consultation with the United States Coast Guard and State and local agencies and be approved by the Commission prior to any final approval to begin construction [and] shall include a cost-sharing plan.” ¹⁰ The plan is to describe any direct cost reimbursements that the applicant will provide to state and local agencies responsible for safety and security at the LNG terminal and in proximity to vessels that serve the facility.¹¹ Additionally, section 3A(c) allows states to provide a report on state and local safety considerations which “the Commission shall review and respond specifically to the issues raised . . . .” ¹²

⁶ These requirements do not apply to NGA section 7 LNG facilities, including LNG peak shaving facilities which store gas in interstate commerce.

⁷ 15 U.S.C. 717b-1(a).

⁸ 18 CFR 157.21. The Commission's regulations allow for the Director of the Office of Energy Projects to waive the mandatory pre-filing procedures when prospective modifications to an existing LNG terminal do not involve significant state and local safety considerations that have not been previously addressed.

⁹ 15 U.S.C. 717b(f). Pursuant to a Memorandum of Understanding with the Department of War, the Commission issues a letter to the Department, which then responds indicating whether or not there are no or minimal impacts to military installations and operations.

¹⁰ Id. 717b-1(e).

¹¹ Id.

¹² Id. 717b-1(c).

4. Modifications to already-approved, operating LNG facilities may need to be undertaken during the life of the facilities.¹³ Such modifications may currently necessitate that the operator file a case-specific application, on which the Commission will make a public interest determination.¹⁴

¹³ LNG projects occurring during operation may include: safety system installations, existing equipment upgrades or replacements, emissions controls, system modifications to enable integration with non-jurisdictional activities (helium extraction or offsite carbon capture and sequestration), uprates, extra power generation, and new LNG trains, storage tanks, or loading berths.

¹⁴ 18 CFR part 153 (detailing the requirements for applications filed pursuant to section 3 of the NGA); 18 CFR part 157 (detailing the requirements for applications filed pursuant to section 7 of the NGA).

B. Existing Regulations for Authorizing Routine Activities Under Section 7

5. Under Part 157, Subpart F of the Commission's regulations,¹⁵ interstate pipelines that hold a certificate of public convenience and necessity under NGA section 7 may apply for a one-time blanket certificate to undertake, without a case-specific authorization, certain activities automatically, subject only to annual reporting requirements ¹⁶ and certain other activities after prior notice,¹⁷ both subject to cost limits.¹⁸ The blanket certificate program “provide[s] streamlined procedures which increase flexibility and reduce regulatory burden” for a generic class of routine activities with particular conditions and procedures for consistency with the Commission's statutory obligations under the NGA and environmental statutes.¹⁹

¹⁵ 18 CFR part 157, subpart F.

¹⁶ Id. 157.203(b), 157.208(a), (e).

¹⁷ Id. 157.203(c), 157.208(b).

¹⁸ Id. 157.208(d), 157.215(a)(5). The cost limits are adjusted each year to reflect the “GDP implicit price deflator” published by the Department of Commerce for the previous calendar year. Id. 157.208(d).

¹⁹ Interstate Pipeline Certificates for Routine Transactions, Order No. 234, 47 FR 24254, at 24256, 24263 (June 4, 1982), FERC Stats. & Regs. ¶ 30,368, at 30,201 (1982) (cross-referenced at 19 FERC ¶ 61,216); see also Revisions to the Blanket Certificate Reguls. & Clarification Regarding Rates, Order No. 686, 71 FR 63680 (Oct. 31, 2006), 117 FERC ¶ 61,074, at P 7 (2006) (“The blanket certificate program was designed to provide an administratively efficient means to authorize a generic class of routine activities, without subjecting each minor project to a full, case-specific NGA section 7 certificate proceeding.”).

6. In 1982, in instituting the blanket certificate program, the Commission explained that:

[T]he final regulations divide the various actions that the Commission certificates into several categories. The first category applies to certain activities performed by interstate pipelines that either have relatively little impact on ratepayers, or little effect on pipeline operations. This first category also includes minor investments in facilities which are so well understood as an established industry practice that little scrutiny is required to determine their compatibility with the public convenience and necessity. The second category of activities provides for a notice and protest procedure and comprises certain activities in which various interested parties might have a concern. In such cases there is a need to provide an opportunity for a greater degree of review and to provide for possible adjudication of controversial aspects. Activities not authorized under the blanket certificate are those activities which may have a major potential impact on ratepayers, or which propose such important considerations that close scrutiny and case-specific deliberation by the Commission is warranted prior to the issuance of a certificate.²⁰

²⁰ Order No. 234, FERC Stats. & Regs. ¶ 30,368 at 30,200.

7. The notice and protest procedures for prior notice projects allow anyone, including Commission staff, to protest a prior notice project within 60 days and, if a protest is not withdrawn or dismissed, the project is reviewed as an application for case-specific authorization under NGA section 7(c).²¹

²¹ 18 CFR 157.205(h).

8. Blanket certificate activities are subject to the conditions in the Commission's regulations implementing the National Environmental Policy Act (NEPA),²² as well as requirements that all blanket certificate activities be consistent with all applicable laws, including the Endangered Species Act, National Historic Preservation Act, Clean Water Act, Clean Air Act, and other applicable statutes relating to environmental concerns.²³

²² Id. part 380. Certain activities undertaken pursuant to the blanket certificate are categorically excluded from NEPA review. Id. 380.4(a)(21).

²³ Id. 157.206.

9. In addition to the blanket program, § 2.55 of the Commission's regulations allows pipeline companies to perform auxiliary installations and facility replacements at section 7(c) facilities without a case-specific authorization.²⁴ For activities undertaken pursuant to either the blanket certificate program or § 2.55, section 7(c) certificate holders are required to provide advance notice to affected landowners.²⁵

²⁴ Id. 2.55. LNG facilities authorized under section 7 of the NGA may use the procedures outlined in § 2.55.

²⁵ Id. 157.203(d)(1) (requiring affected landowners to be notified of automatic authorization projects at least 45 days prior to commencing construction or at the time it initiates easement negotiations, whichever is earlier); id. 157.203(d)(2) (requiring affected landowners to be notified of prior notice projects within three days following the date that a docket number is assigned to the application or at the time it initiates easement negotiations, whichever is earlier); id. 2.55(c) (requiring a good faith effort to notify in writing each affected landowner at least five days prior to commencing any activity except for activities for which all ground disturbance will be within an existing above-ground site or those done for safety, DOT compliance, or environmental or unplanned maintenance that are not foreseen and that require immediate attention).

10. In two earlier blanket certificate rulemakings decades prior to this, the Commission declined to extend the program to include LNG facilities. In the 1982 rulemaking, the Commission excluded LNG facilities from the program, finding that they “may have a significant impact on ratepayers” and therefore “should not be authorized under a blanket certificate, but should be subjected instead to the scrutiny of a case-specific determination.” ²⁶ In 2006, the Commission revised its blanket certificate regulations but again declined to extend the program to include LNG facilities.²⁷ The Commission explained that “LNG plant facilities are not within the class of minor, well-understood, routine activities that the blanket certificate program is intended to embrace; LNG plant facilities necessarily require a review of engineering, environmental, safety, and security issues that the Commission believes only can be properly considered on a case-by-case basis.” ²⁸ The Commission summarized on rehearing that “the blanket certificate program is not well suited to address the complexity inherent in issues raised by LNG . . . facilities.” ²⁹

²⁶ Order No. 234, FERC Stats. & Regs. ¶ 30,368 at 30,206.

²⁷ Order No. 686, 117 FERC ¶ 61,074 at PP 18-23.

²⁸ Id. P 21 (quoting Revisions to the Blanket Certificate Reguls. & Clarification Regarding Rates, Notice of Proposed Rulemaking, 71 FR 36276 (June 26, 2006), 115 FERC ¶ 61,338, at PP 29-30 (2006)).

²⁹ Revisions to the Blanket Certificate Reguls. & Clarification Regarding Rates, Order No. 686-A, 72 FR 37431 (July 10, 2007), 119 FERC ¶ 61,303, at P 22 (2007).

11. The Commission's experience with LNG facilities in the United States has changed considerably since the 1982 and 2006 rulemakings. As mentioned above, the 2006 rulemaking stated that the complexity of issues raised by LNG facilities, and the Commission's limited experience with these issues at the time, precluded including them in the blanket program.³⁰ Since that time, both the Commission and industry have gained significant experience regarding the engineering, environmental, safety, and security issues at LNG plants. The Commission has evaluated more than 100 LNG project applications since 2006 under NGA section 3 and 7. Staff have also engaged in extensive coordination with the Department of Transportation's (DOT) Pipeline and Hazardous Materials Safety Administration (PHMSA) and the US Coast Guard (USCG), which are also involved in safety for these facilities, to proactively develop established safety standards and best practices with the LNG industry.³¹

³⁰ Id. PP 22-23.

³¹ In individual proceedings, the Commission has issued over 4,500 requirements, including approximately 4,000 requirements that have been coordinated with PHMSA and the USCG regarding the engineering, safety, security, and reliability of those projects in accordance with a 2004 Interagency Agreement. Interagency Agreement Among the FERC, USCG, and [PHMSA] for the Safety and Security Review of Waterfront Import/Export LNG Facilities, February 11, 2004, https://www.ferc.gov/media/2004-interagency-dot-and-uscg, Accessed October 2025. Approximately 30 of these orders were issued after a 2018 Memorandum of Understanding with DOT for coordination between the Commission and PHMSA on determining whether proposed LNG facilities comply with PHMSA's siting requirements contained in 49 CFR part 193 Subpart B. Interagency Agreement Among the FERC, USCG, and [PHMSA] for the Safety and Security Review of Waterfront Import/Export LNG Facilities, February 11, 2004, https://www.ferc.gov/media/2004-interagency-dot-and-uscg, Accessed October 2025. Commission staff, along with DOT PHMSA and US Coast Guard representatives, have also actively participated in an LNG Technical Committee and Commission staff has made over 300 proposals since 2016 to update subsequent versions of the National Fire Protection Association (NFPA) 59A, Standard for the Production, Storage, and Handling of LNG, to improve the safety, security, and reliability of LNG projects consistent with the requirements that the Commission imposes on LNG facilities in its authorization orders.

12. Changes in the LNG market have also led to an expansion in the number of projects that the Commission regulates. Since 2006, the United States has emerged as the world's largest LNG exporter with seven large-scale LNG export terminals currently in operation, eight new or expanded export projects in construction, and additional terminals and expansions expected over the next several years. Although certain changes and variances are permitted during LNG terminal construction, changes to an operating LNG terminal—in some cases even routine adjustments like equipment replacements—may currently require a case-specific authorization. With more LNG facilities in operation in the United States, the current case-by-case review process for certain replacements, modifications, and expansions may be administratively inefficient, slow down needed projects, and create unnecessary regulatory uncertainty. In addition, many LNG facilities under section 7 have been in operation for 50 years. While many have been able to replace existing facilities under § 2.55 provisions, there is less regulatory certainty whether those provisions can be used to make replacements, modifications, or expansions to accommodate changes in feed gas compositions, changes in technology, or other conditions. Thus, the Commission believes that reconsidering allowing an automatic and/or prior-notice authorization program for certain activities is warranted.

II. Subject of the Notice of Inquiry

13. The Commission is issuing this notice of inquiry to consider whether, and if so how, to revise its Part 153, 157, and 380 regulations to establish procedures for authorizing certain activities at LNG plants without a case-specific authorization order, to provide regulatory certainty and significantly streamline liquefied natural gas infrastructure permitting. The Commission seeks comment on the following questions:

A. Process-Related Questions

A1. If the Commission promulgates rules to allow for the construction, expansion, and operation of facilities without a case-specific section 3 authorization, should the Commission require each LNG operator to apply for a blanket section 3 authorization as it does for natural gas pipelines pursuant to Part 157, Subpart F (see 18 CFR 157.204(a)) or should all current and new LNG operators be automatically granted a blanket authorization?

A2. How, if at all, should the Commission factor in a current LNG operator's compliance history when determining whether to grant blanket section 3 authorization?

A3. Under the Commission's existing Part 157, Subpart F blanket certificate regulations for activities under NGA section 7, there is a two-tiered process whereby some activities are automatically authorized while others require prior notice (see 18 CFR 157.203(a)-(c)). Should the Commission adopt a similar tiered approach for activities at LNG terminals under section 3? If so, should there be additional or different tiers?

A4. If the Commission allows for the construction, expansion, operation, and modification of certain LNG facilities without prior notice under a blanket section 3 authorization, should the Commission:

a. require LNG operators to notify Commission staff of any proposed modifications prior to implementing them, similar to the notification requirements in § 2.55(b)(1)(iii)? And, if so, is 30 days' notice sufficient?; and/or

b. require an LNG operator to file a semi-annual or annual report documenting the activities undertaken during the previous calendar year pursuant to the blanket authorization program? Is including this information in the current semiannual report sufficient? What information should be included in such reports?

A5. If the Commission requires prior notice for some or all activities under a blanket section 3 authorization, should the Commission adopt the same notice requirements as those detailed in the Commission's blanket certificate regulations, including Commission issuance of a notice within 10 days of filing if the filing is not rejected and a 60-day notice period thereafter for filing protests and interventions (see 18 CFR 157.205)?

A6. Should the Commission adopt the same process concerning protests to prior notice section 3 LNG projects as is currently in place for prior notice blanket certificate pipeline projects, i.e. that if a protest is filed and not withdrawn or dismissed, the application will treated as a request for a section 3 authorization (see 18 CFR 157.205), or should a different process be required? If a different process should be required, which types of protests should be dismissed, if any?

A7. What stakeholder (e.g., affected landowner and local, state, and federal agencies) notification requirements should the Commission adopt for projects constructed pursuant to a blanket authorization program?

A8. Should the Commission require LNG facilities under a blanket section 3 or 7 authorization be constructed and placed into service within a specified timeframe? If so, what timeframe?

B. Project Eligibility

B1. LNG projects occurring during operation may include, but are not limited to: (i) replacements of, modifications to, or new facilities, systems, or components that improve efficiency, capacity, reliability, safety, or emissions and lessen adverse impacts to the public; (ii) replacements of, modifications to, or new facilities, systems, or components that increase capacity of pretreatment, liquefaction, storage, transfer, or auxiliary facilities without exceeding previously evaluated resource impacts identified in the NEPA process associated with the plant's underlying authorizations; or (iii) replacements of, modifications to, or new facilities, systems, or components that are identical to those previously evaluated and authorized by the Commission. If the Commission adopts a tiered approach similar to that in the blanket certificate regulations for natural gas pipelines (18 CFR 157.203(b)-(c)), what categories of projects should be eligible for automatic authorization? What categories of projects should be eligible for prior notice authorization? How should the Commission divide these categories, e.g., based on costs, infrastructure types, or anticipated environmental effects, based on one or more of safety, security, operability, or reliability concerns, based on the impact on LNG production or export capacity, or based on other factors?

B2. What activities and modifications at authorized and existing LNG plants would result in no adverse impacts to the environment or safety? Specifically, what types of LNG facility modifications, systems, or components would have no or beneficial impacts to the following resources:

• Water Resources;

• Water Bodies and Wetlands;

• Wildlife, including Threatened and Endangered Species;

• Vegetation;

• Cultural Resources;

• Socioeconomics;

• Geological Resources;

• Soils;

• Land Use;

• Recreation;

• Visual Resources;

• Air Quality;

• Noise;

• Reliability; and

• Safety.

B3. What categories of LNG projects would provide equivalent or greater level of environmental protection and safety as compared to what is authorized at an existing LNG plant? Specifically, what types of LNG facility modifications, systems, or components would result in different impacts but nevertheless provide an equivalent or greater level of protection to the resources listed in question B2?

B4. What categories of LNG projects would result in less than significant impacts to the environment and safety at authorized and existing LNG plants such that the Commission could categorically determine that such projects are not inconsistent with the public interest under NGA section 3, or are or will be required by the present or future public convenience and necessity under NGA section 7? Specifically, what types of LNG facility modifications, systems, or components would result in less than significant impacts to the resources listed in question B2?

B5. Should the Commission allow the construction and operation of additional facilities under a blanket section 3 or 7 LNG authorization program to occur outside the authorized LNG plant limits? If so, what should the restrictions or criteria be for construction outside the authorized plant limits?

B6. Should the Commission revise its Part 157 blanket certificate regulations to include modifications to LNG facilities under section 7? If so, what types of projects should be subject to automatic authorization and prior notice?

B7. Should the Commission require different cost limits for LNG facilities under section 7 than for other interstate natural gas facilities? Are cost-based limits appropriate for these LNG facilities? Should there be any other considerations beyond cost and those listed above?

C. Statutory and Regulatory Compliance

C1. How should applicants demonstrate that: (1) other federal permitting agencies have been consulted and that all necessary federal authorizations are received prior to construction; (2) the modified LNG facilities would meet the federal siting requirements promulgated by PHMSA; (3) a Letter of Intent and Waterways Safety Assessment has been filed with the USCG and a Letter of Recommendation that determines the waterway to be suitable has been issued by the USCG; (4) the Department of War has concurred that there would be no or minimal impacts to military installations, training, and operations; (5) state and local safety considerations have been addressed prior to construction of facilities per NGA section 3A(b)-(d); and (6) an emergency response plan, including a cost sharing plan, has been developed in consultation with the USCG and state and local agencies prior to construction?

C2. Currently, under § 157.21(e) of the Commission's regulations, the Director of OEP may waive after notice prefiling if there are no significant state and local safety considerations that have not been previously addressed. How should applicants demonstrate that there are no significant state and local safety considerations that have not been previously addressed in order to waive pre-filing requirements under the NGA and § 157.21(e) of the Commission's regulations per NGA section 3A(a)? Should the Commission consider modifying when or how it waives its prefiling requirements?

C3. To comply with NEPA in reviewing proposed LNG facilities, should the Commission consider establishing additional categorical exclusions or adopting existing categorical exclusions from other federal agencies?

D. Conditions of Authorization

D1. What applicable federal laws, permits, and regulations could be relied upon to ensure that no significant engineering, environmental, safety, and security impacts occur from LNG facility modifications, systems, and components authorized under a blanket program throughout construction and operation?

D2. How would a blanket section 3 authorization program comply with the following federal statutes and regulatory schemes:

• Rivers and Harbors Act

• Clean Water Act

• Migratory Bird Treaty Act

• Fish and Wildlife Coordination Act

• Bald and Golden Eagle Protection Act

• Marine Protection, Research, and Sanctuaries Act

• Marine Mammal Protection Act

• Endangered Species Act

• Magnuson-Stevens Fishery Conservation and Management Act

• National Historic Preservation Act

• Farmland Protection Policy Act

• Coastal Zone Management Act

• Clean Air Act

• Natural Gas Pipeline Safety Act

• Ports and Waterways Safety Act

• Marine Transportation Security Act

Are there other federal laws to be considered?

D3. What terms and conditions that have been historically incorporated into orders authorizing LNG projects could be included in a section 3 or section 7 authorization program to ensure no significant adverse environmental or safety impacts occur?

D4. Should the Commission require notice(s) to proceed from the Director of the Office of Energy Projects or their designee prior to the start of construction, introduction of hazardous fluids, or other milestones, to ensure that the activities comply with all necessary safety measures?

E. Cost Impacts

E1. What are the historic and estimated range of costs for preparation of an application for modifications to an NGA section 3 LNG export/import terminal? Modifications could include replacements of, modifications to, or construction, installation, and operation of new facilities or components of those facilities, including those that increase capacity of feed gas, pretreatment, liquefaction, storage, transfer, vaporization, sendout, or auxiliary facilities.

E2. What are the historic and estimated range of costs for preparation of an application for modifications to an NGA section 7 LNG plant?

III. Comment Procedures

14. The Commission invites interested persons to submit comments on the matters and issues identified in this notice. Comments are due January 26, 2026. Comments must refer to Docket No. RM26-2-000, and must include the commenter's name, the organization they represent, if applicable, and their address in their comments. All comments will be placed in the Commission's public files and may be viewed, printed, or downloaded remotely as described in the Document Availability section below. Commenters on this proposal are not required to serve copies of their comments on other commenters.

15. The Commission encourages comments to be filed electronically via the eFiling link on the Commission's website at http://www.ferc.gov. The Commission accepts most standard word processing formats. Documents created electronically using word processing software must be filed in native applications or print-to-PDF format and not in a scanned format. Commenters filing electronically do not need to make a paper filing.

16. Commenters that are not able to file comments electronically may file an original of their comment by USPS mail or by courier-or other delivery services. For submission sent via USPS only, filings should be mailed to: Federal Energy Regulatory Commission, Office of the Secretary, 888 First Street NE, Washington, DC 20426. Submission of filings other than by USPS should be delivered to: Federal Energy Regulatory Commission, 12225 Wilkins Avenue, Rockville, MD 20852.

IV. Document Availability

17. In addition to publishing the full text of this document in the Federal Register, the Commission provides all interested persons an opportunity to view and/or print the contents of this document via the internet through the Commission's Home Page (http://www.ferc.gov).

18. From the Commission's Home Page on the internet, this information is available on eLibrary. The full text of this document is available on eLibrary in PDF and Microsoft Word format for viewing, printing, and/or downloading. To access this document in eLibrary, type the docket number excluding the last three digits of this document in the docket number field.

19. User assistance is available for eLibrary and the Commission's website during normal business hours from FERC Online Support at (202) 502-6652 (toll free at 1-866-208-3676) or email at ferconlinesupport@ferc.gov.

By direction of the Commission.
Issued: November 20, 2025.
Carlos D. Clay,
Deputy Secretary.

[FR Doc. 2025-20898 Filed 11-24-25; 8:45 am]

BILLING CODE 6717-01-P